DEPARTMENT OF TRANSPORTATION

National Highway Traffic Safety Administration

[Docket No. NHTSA-2019-0122]

Notice of Request for Comments: Drug-Impaired Driving Criminal Justice Evaluation Tool

AGENCY: National Highway Traffic Safety Administration (NHTSA), Department of Transportation (DOT).

ACTION: Request for comment.

SUMMARY: The National Highway Traffic Safety Administration (NHTSA) is engaged in numerous activities to reduce drug-impaired driving, including conducting research and developing tools, resources, and promising practices to assist States and local communities. To aid in evaluating efforts to address drug-impaired driving, NHTSA has developed the Drug-Impaired Driving Criminal Justice Evaluation Tool. The tool is designed to assist with identifying program strengths and opportunities for improvements. After asking two organizations to test the model to explore weaknesses and identify areas for refinement, NHTSA now wishes to learn from other practitioners about any improvements and refinements that could add value to the tool. This notice requests comment on the completeness and usability of the tool.

DATES: Comments are due by April 27, 2020. See the SUPPLEMENTARY INFORMATION section on “Public Participation,” below, for more information about written comments.

ADDRESSES: You may submit comments identified by the DOT docket above using any of the following methods:

Electronic Submissions: Go to https://www.regulations.gov. Follow the online instructions for submitting comments.

Mail: Docket Management Facility, U.S. Department of Transportation, 1200 New Jersey Avenue SE, West Building Ground Floor, Room W12-140, Washington, DC 20590-0001.

Hand Delivery: West Building Ground Floor, Room W12-140, 1200 New Jersey Avenue SE, Washington, DC, between 9 a.m. and 5 p.m. ET, Monday through Friday, except Federal holidays.

Fax: 1-202-493-2251

Instructions: For detailed instructions on submitting comments, see the Public Participation heading of the SUPPLEMENTARY INFORMATION section of this document. Note that all comments received will be posted without change to https://www.regulations.gov, including any personal information provided.

Privacy Act: Except for Confidential Information, as discussed below, all comments received into the docket will be made public in their entirety. The comments will be searchable by the name of the individual submitting the comment (or signing the comment, if submitted on behalf of an association, business, labor union, etc.). You should not include information in your comment that you do not want to be made public. You may review the DOT's complete Privacy Act Statement at https://www.transportation.gov/privacy.

Docket: For access to the docket to read background documents or comments received, go to https://www.regulations.gov or to the street address listed above. Follow the online instructions for accessing the docket.

FOR FURTHER INFORMATION CONTACT: Please contact Jennifer Davidson at jennifer.davidson@dot.gov or (202) 366-2163.

SUPPLEMENTARY INFORMATION: The Drug-Impaired Driving Criminal Justice Evaluation Tool is designed to allow State, local, territorial, and tribal governments to assess and strengthen their drug-impaired driving programs. The tool consists of questions divided into ten sections representative of critical criminal justice and programmatic elements. The categories include law enforcement, prosecution, judiciary, community supervision, toxicology, treatment, emergency medical services, data, legislation, and program and communications. The Excel file, which can be downloaded from NHTSA's website at https://www.nhtsa.gov/DUIDtool, allows individual sections to be sent to the appropriate organizational representative for completion.

The Drug-Impaired Driving Criminal Justice Evaluation Tool allows users to assess their existing programs to reduce drug-impaired driving through a systematic review of activities, policies, and procedures being implemented. The completed tool is intended purely for the use of State, local, territorial or tribal governments for self-assessment and will not be collected by NHTSA. The tool can help jurisdictions identify gaps in their drug-impaired driving programs, inform strategies to strengthen the programs, and help track progress over time against baseline results. The tool includes links to best practices and resources for strengthening drug-impaired driving programs.

The Drug-Impaired Driving Criminal Justice Evaluation Tool is designed to be completed in consultation with representatives most familiar with the relevant program areas, either individually or via group discussion (e.g., with the State DWI Task Force). The tool can be completed in its entirety for a comprehensive program evaluation of the criminal justice system's ability to respond to drug-impaired driving, or where appropriate to assess one component of the criminal justice system.

The evaluation is based on the Capability Maturity Model, used by other Federal agencies, to develop and refine an organization's software or program development process. The model utilizes a five-step hierarchy of program growth and maturity. The Capability Maturity Model can serve as a benchmark and be repeated to show progress over time. After answering the questions for each subsection of the tool, raters note their program strength level for each component using a defined 0-5 point scale. Scores are tabulated on the final “Scoring” sheet to provide an overall view of program performance for each component and to compare against baseline results for repeat evaluations. Planning sections are included for each issue area following ratings to document program strengths, opportunities, and goals for improvement.

NHTSA conducted a limited test of the evaluation tool to obtain feedback on how to enhance and improve its value. Since making refinements recommended during testing, NHTSA is interested in learning more about potential end-users' impressions of the tool.

We believe the questions below may help guide commenters in developing their submissions.

1. Is the information provided adequate to understand how to use the tool?

2. Is the format easy to use?

3. Are there other resources that should be included?

4. Will this tool be beneficial to State, local, territorial and tribal drug-impaired driving criminal justice programs?

5. What changes are needed to make the tool more beneficial?

Public Participation:

How do I prepare and submit comments?

Your comments must be written and in English. To ensure that your comments are filed correctly in the docket, please include the docket number of this document in your comments.

Please submit one copy (two copies if submitting by mail or hand delivery) of your comments, including any attachments, to the docket following the instructions given above under ADDRESSES. Please note, if you are submitting comments electronically as a PDF (Adobe) file, we ask that the documents submitted be scanned using an Optical Character Recognition (OCR) process, thus allowing the agency to search and copy certain portions of your submissions.

How do I submit confidential business information?

Any submissions containing Confidential Information must be delivered to NHTSA in the following manner:

• Submitted in a sealed envelope marked “confidential treatment requested”;

• Accompanied by an index listing the document(s) or information that the submitter would like the Departments to withhold. The index should include information such as numbers used to identify the relevant document(s) or information, document title and description, and relevant page numbers and/or section numbers within a document; and

• Submitted with a statement explaining the submitter's grounds for objecting to disclosure of the information to the public.

NHTSA also requests that submitters of Confidential Information include a non-confidential version (either redacted or summarized) of those confidential submissions in the public docket. In the event that the submitter cannot provide a non-confidential version of its submission, NHTSA requests that the submitter post a notice in the docket stating that it has provided NHTSA with Confidential Information. Should a submitter fail to docket either a non-confidential version of its submission or to post a notice that Confidential Information has been provided, we will note the receipt of the submission on the docket, with the submitter's organization or name (to the degree permitted by law) and the date of submission.

Will the Agency consider late comments?

NHTSA will consider all comments received before the close of business on the comment closing date indicated above under DATES. To the extent possible, the agency will also consider comments received after that date.

How can I read the comments submitted by other people?

You may read the comments received at the address given above under COMMENTS. The hours of the docket are indicated above in the same location. You may also see the comments on the internet, identified by the docket number at the heading of this notice, at https://www.regulations.gov.

Authority: 23 U.S.C. 403(b).

Issued in Washington, DC.
Nanda Narayanan Srinivasan,
Associate Administrator, Research and Program Development.

[FR Doc. 2020-03917 Filed 2-26-20; 8:45 am]

BILLING CODE 4910-59-P